FEDERAL COMMUNICATIONS COMMISSION

[CG Docket No. 18-307; DA 18-1196]

Waivers of Wireline Telephone Volume Control Reset Rules

AGENCY: Federal Communications Commission.

ACTION: Notice.

SUMMARY: In this document, the Consumer and Governmental Affairs Bureau announces a new docket and modified filing procedures for requesting waiver of the volume control reset requirements for wireline telephones.

DATES: The modified filing procedures are effective February 8, 2019.

FOR FURTHER INFORMATION CONTACT: Suzy Rosen Singleton, Disability Rights Office, Consumer and Governmental Affairs Bureau, at (202) 510-9446 or by email at Suzanne.Singleton@fcc.gov.

SUPPLEMENTARY INFORMATION: The full text of document DA 18-1196, released on November 27, 2018, including filing instructions for volume control reset waiver requests, and copies of any subsequently filed documents in this matter will be available for public inspection and copying via ECFS at https://www.fcc.gov/ecfs/ and during regular business hours at the FCC Reference Information Center, Portals II, 445 12th Street SW, Room CY-A257, Washington, DC 20554. Document DA 18-1196 can also be downloaded in Word and Portable Document Format (PDF) at https://www.fcc.gov/general/disability-rights-office-headlines.

To request materials in accessible formats for people with disabilities (Braille, large print, electronic files, audio format), send an email to fcc504@fcc.gov, or call the Consumer and Governmental Affairs Bureau at (202) 418-0530 (voice) or (202) 418-0432 (TTY).

Federal Communications Commission.
Suzy Rosen Singleton,
Chief, Disability Rights Office, Consumer and Governmental Affairs Bureau.

[FR Doc. 2019-01552 Filed 2-7-19; 8:45 am]

BILLING CODE 6712-01-P